DEPARTMENT OF HEALTH AND HUMAN SERVICES

National Institutes of Health

National Institute of Mental Health; Notice of Meeting

Notice is hereby given of a Scientific Workshop convened by the Interagency Autism Coordinating Committee (IACC).

The purpose of the IACC Scientific Workshop is to discuss the annual update of the IACC Strategic Plan for Autism Spectrum Disorders Research. The meeting will be open to the public and will be accessible by Web cast and conference call.

Name of Committee: Interagency Autism Coordinating Committee (IACC).

Type of meeting: IACC Scientific Workshop.

Date: September 30—October 1, 2009.

Time: 9 a.m. to 5:30p.m. Eastern Time—September 30, 2009.

9 a.m. to 5 p.m. Eastern Time—October 1, 2009.

Agenda: The workshop will cover the six questions in the strategic plan, focusing on noted research gaps, new opportunities for advancing research and knowledge about autism spectrum disorders (ASD), and the prioritization of short-term and long-term objectives in the plan. The format of the meeting will include presentations by invited panelists (clinicians, researchers and people with ASD or family members of people with ASD), as well as discussions by panelists, the public and members of the IACC.

Place: Bethesda North Marriott, 5701 Marinelli Road, Bethesda, MD 20852.

Webcast Live: http://videocast.nih.gov/.

Conference Call Access:

Dial: 888-455-2920.

Access code: 4173827.

Cost: The meeting is free and open to the public.

Registration: http://www.acclaroresearch.com/oarc/9-30-09_workshop/

Pre-registration is strongly recommended to expedite check-in. Seating in the meeting room is limited to room capacity and on a first come, first served basis. An overflow room with limited seating and access to the videocast will be provided.

Access: Metro accessible—Red Line—White Flint Metro Station.

Onsite parking available—$4.00 hourly, $12.00 daily.

More Information and Updates: http://iacc.hhs.gov/events/.

Contact Person: Ms. Lina Perez,

Office of Autism Research Coordination,

National Institute of Mental Health, NIH,

6001 Executive Boulevard, Room 8200,

Bethesda, MD 20892-9669,

Phone: 301-443-6040,

E-mail: IACCPublicInquiries@mail.nih.gov.

Please Note:

Pre-registration is strongly recommended. Seating will be limited to the room capacity and seats will be on a first come, first served basis, with expedited check-in for those who are pre-registered. As a part of security procedures, attendees should be prepared to present a photo ID at the meeting registration desk during the check-in process.

The meeting will be open to the public through a conference call phone number and webcast live on the Internet. Individuals who participate in person or by using these electronic services and who need special assistance, such as captioning of the conference call or other reasonable accommodations, should submit a request at least 7 days prior to the meeting.

Members of the public who participate using the conference call phone number will be able to listen to the meeting but will not be heard.

To access the webcast live on the Internet the following computer capabilities are required:

(A) Internet Explorer 5.0 or later, Netscape Navigator 6.0 or later or Mozilla Firefox 1.0 or later;

(B) Windows® 2000, XP Home, XP Pro, 2003 Server or Vista;

(C) Stable 56k, cable modem, ISDN, DSL or better Internet connection;

(D) Minimum of Pentium 400 with 256 MB of RAM (Recommended);

(E) Java Virtual Machine enabled (Recommended).

Information about the IACC is available on the Web site: http://www.iacc.hhs.gov.

The schedule for the meeting is subject to change.

Dated: August 31, 2009.
Jennifer Spaeth,
Director, Office of Federal Advisory Committee Policy.

[FR Doc. E9-21784 Filed 9-9-09; 8:45 am]

BILLING CODE 4140-01-P